DEPARTMENT OF HOUSING AND URBAN DEVELOPMENT

[Docket No. FR-5550-D-01]

Delegation of Authority for the Office of Field Policy and Management

AGENCY: Office of the Secretary, HUD.

ACTION: Notice of Delegation of Authority.

SUMMARY: Through this notice, the Secretary of the Department of Housing and Urban Development delegates to the Assistant Deputy Secretary for Field Policy and Management authority for the management and oversight of the Department's field operations.

DATES: Effective Date: October 9, 2012.

FOR FURTHER INFORMATION CONTACT: Lawrence D. Reynolds, Assistant General Counsel, Administrative Law Division, Department of Housing and Urban Development, 451 7th Street SW., Room 9262, Washington, DC 20410-0500, telephone number 202-402-3502 (this is not a toll-free number). Persons with hearing or speech impairments may access this number through TTY by calling the toll-free Federal Relay Service at 1-800-877-8339.

SUPPLEMENTARY INFORMATION:

Section A. Authority

The Secretary of HUD hereby delegates to the Assistant Deputy Secretary for Field Policy and Management authority for the management and oversight of the Department's field operations. In carrying out this authority, the Assistant Deputy Secretary for Field Policy and Management shall, among other duties:

1. Coordinate the implementation of the Department's policies and programs in the field in consultation with field program directors. Program coordination does not mean program decisionmaking but, rather, collecting local information, measuring community impact, initiating cross-program communication and coordination, and facilitating the resolution of potential program differences through the appropriate channels, if necessary.

2. Manage and assess field resources to ensure that operations are efficient and effective.

3. Coordinate and convey the Strategic Plan and Management Action Plan with the field.

4. Advise the Secretary on policy and management of the field.

Section B. Authority To Redelegate

The Assistant Deputy Secretary for Field Policy and Management is authorized to redelegate to employees of HUD any of the authority delegated under section A above.

Section C. Authority Superseded

This Delegation supersedes all previous delegations from the Secretary of HUD to the Assistant Deputy Secretary for Field Policy and Management.

Authority: Section 7(d), Department of Housing and Urban Development Act (42 U.S.C. 3535(d)).

Dated: October 9, 2012.
Shaun Donovan,
Secretary.

[FR Doc. 2012-25709 Filed 10-18-12; 8:45 am]

BILLING CODE 4210-67-P